DEPARTMENT OF ENERGY

Federal Energy Regulatory Commission

Combined Notice of Filings #1

Take notice that the Commission received the following electric corporate filings:

Docket Numbers: EC13-153-000.

Applicants: Buffalo Dunes Wind Project, LLC.

Description: Application for Authorization under Section 203 of the Federal Power Act, Request for Expedited Consideration and Confidential Treatment of Buffalo Dunes Wind Project, LLC.

Filed Date: 9/20/13.

Accession Number: 20130920-5158.

Comments Due: 5 p.m. e.t. 10/11/13.

Take notice that the Commission received the following exempt wholesale generator filings:

Docket Numbers: EG13-59-000.

Applicants: Mountain View Solar, LLC.

Description: Notice of Self-Certification of Exempt Wholesale Generator Status of Mountain View Solar, LLC.

Filed Date: 9/20/13.

Accession Number: 20130920-5119.

Comments Due: 5 p.m. e.t. 10/11/13.

Take notice that the Commission received the following electric rate filings:

Docket Numbers: ER10-2331-022; ER10-2325-018; ER10-2326-021; ER10-2327-022; ER10-2330-021.

Applicants: J.P. Morgan Ventures Energy Corporation, BE Louisiana LLC, Cedar Brakes I, L.L.C., Cedar Brakes II, L.L.C., Utility Contract Funding, L.L.C.

Description: JPMorgn Sellers Notice of Non-Material Change In Status re: Noble Great Plains.

Filed Date: 9/20/13.

Accession Number: 20130920-5160.

Comments Due: 5 p.m. e.t. 10/11/13.

Docket Numbers: ER10-3081-005.

Applicants: Equilon Enterprises LLC.

Description: Equilon Enterprises LLC's Updated Market Power Analysis for the Southwest Region.

Filed Date: 9/20/13.

Accession Number: 20130920-5153.

Comments Due: 5 p.m. e.t. 11/19/13.

Docket Numbers: ER13-96-002.

Applicants: Black Hills Power, Inc.

Description: Order No. 1000 Compliance Filing to be effective 12/31/9998.

Filed Date: 9/20/13.

Accession Number: 20130920-5121.

Comments Due: 5 p.m. e.t. 10/21/13.

Docket Numbers: ER13-97-002.

Applicants: Black Hills/Colorado Electric Utility Co.

Description: Order No. 1000 Compliance Filing to be effective 12/31/9998.

Filed Date: 9/20/13.

Accession Number: 20130920-5114.

Comments Due: 5 p.m. e.t. 10/21/13.

Docket Numbers: ER13-105-002.

Applicants: NV Energy, Inc.

Description: OATT Order No. 1000 Second Compliance Filing to be effective 12/31/9998.

Filed Date: 9/20/13.

Accession Number: 20130920-5122.

Comments Due: 5 p.m. e.t. 10/21/13.

Docket Numbers: ER13-120-002.

Applicants: Cheyenne Light, Fuel and Power Company.

Description: Order No. 1000 Compliance Filing to be effective 12/31/9998.

Filed Date: 9/20/13.

Accession Number: 20130920-5129.

Comments Due: 5 p.m. e.t. 10/21/13.

Docket Numbers: ER13-2409-000.

Applicants: Buffalo Dunes Wind Project, LLC.

Description: Buffalo Dunes Wind Project, LLC MBR Tariff to be effective 10/1/2013.

Filed Date: 9/20/13.

Accession Number: 20130920-5095.

Comments Due: 5 p.m. e.t. 10/11/13.

Docket Numbers: ER13-2410-000.

Applicants: PPL Electric Utilities Corporation, PJM Interconnection, L.L.C.

Description: PPL Electric submits revisions to PJM OATT Attachment H-8G to be effective 6/1/2015.

Filed Date: 9/20/13.

Accession Number: 20130920-5101.

Comments Due: 5 p.m. e.t. 10/11/13.

Docket Numbers: ER13-2411-000.

Applicants: Sierra Pacific Power Company.

Description: Rate Schedule No. 27—Annual BPA-GTA Update 2013 to be effective 10/31/2013.

Filed Date: 9/20/13.

Accession Number: 20130920-5102.

Comments Due: 5 p.m. e.t. 10/11/13.

Docket Numbers: ER13-2412-000.

Applicants: Trans Bay Cable LLC.

Description: Submission of Revisions to Appendix I of the Trans Bay Transmission Owner Tariff to be effective 11/23/2013.

Filed Date: 9/20/13.

Accession Number: 20130920-5103.

Comments Due: 5 p.m. e.t. 10/11/13.

Docket Numbers: ER13-2413-000.

Applicants: PJM Interconnection, L.L.C.

Description: Revisions to the OATT & OA re Wind Resource Lost Opportunity Cost Eligibility to be effective 11/19/2013.

Filed Date: 9/20/13.

Accession Number: 20130920-5112.

Comments Due: 5 p.m. e.t. 10/11/13.

Docket Numbers: ER13-2414-000.

Applicants: Mammoth Three LLC.

Description: Petition of Mammoth Three LLC for Approval of Initial Market-Based Rate Tariff to be effective 11/15/2013.

Filed Date: 9/20/13.

Accession Number: 20130920-5120.

Comments Due: 5 p.m. e.t. 10/11/13.

Docket Numbers: ER13-2415-000.

Applicants: Midcontinent Independent System Operator, Inc.

Description: 09-20-2013 MCP-OTP T-L IA to be effective 8/23/2013.

Filed Date: 9/20/13.

Accession Number: 20130920-5128.

Comments Due: 5 p.m. e.t. 10/11/13.

Take notice that the Commission received the following foreign utility company status filings:

Docket Numbers: FC13-13-000.

Applicants: Summerhaven Wind, LP.

Description: Notification of Self-Certification of Foreign Utility Company Status of Summerhaven Wind, LP.

Filed Date: 9/20/13.

Accession Number: 20130920-5092.

Comments Due: 5 p.m. e.t. 10/11/13.

Take notice that the Commission received the following qualifying facility filings:

Docket Numbers: QF13-679-000.

Applicants: UMM Energy Partners, LLC.

Description: Form 556 of UMM Energy Partners, LLC.

Filed Date: 9/19/13.

Accession Number: 20130919-5042.

Comment Date: None Applicable.

Take notice that the Commission received the following electric reliability filings

Docket Numbers: RD13-12-000.

Applicants: North American Electric Reliability Corp, Texas Reliability Entity, Inc.

Description: Joint Petition of the North American Electric Reliability Corporation and Texas Reliability Entity, Inc., for Approval of Proposed Regional Reliability Standard BAL-001-TRE-01.

Filed Date: 09/18/2013.

Accession Number: 20130918-5095.

Comment Date: 5 p.m. e.t. 10/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2013.
Nathaniel J. Davis, Sr.,
Deputy Secretary.

[FR Doc. 2013-23720 Filed 9-27-13; 8:45 am]

BILLING CODE 6717-01-P